RAILROAD RETIREMENT BOARD

Proposed Collection; Comment Request

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Application for Reimbursement for Hospital Insurance Services in Canada; OMB 3220-0086.

Under section 7(d) of the Railroad Retirement Act (RRA), the RRB administers the Medicare program for persons covered by the railroad retirement system. Payments are provided under section 7(d)(4) of the RRA for medical services furnished in Canada to the same extent as for those furnished in the United States. However, payments for the services furnished in Canada are made from the Railroad Retirement Account rather than from the Federal Hospital Insurance Trust Fund, with the payments limited to the amount by which insurance benefits under Medicare exceed the amount payable under Canadian Provincial plans.

Form AA-104, Application for Canadian Hospital Benefits Under Medicare—Part A, is provided by the RRB to a claimant seeking reimbursement for covered hospital services received in Canada. The form obtains information needed to determine the eligibility of the applicant and the amount of any reimbursement due. One response is requested of each respondent. Completion is required to obtain a benefit.

The RRB Proposes Non-Burden Impacting Formatting and Editorial Changes to Form AA-104

Estimate of Annual Respondent Burden

The estimated annual respondent burden is as follows:

Form No. | Annual responses | Time (minutes) | Burden (hours)
AA-104 | 35 | 10 | 6

2. Title and purpose of information collection: Employee Non-Covered Service Pension Questionnaire; OMB 3220-0154.

Section 215(a)(7) of the Social Security Act provides for a reduction in social security benefits based on employment not covered under the Social Security Act or the Railroad Retirement Act (RRA). This provision applies a different social security benefit formula to most workers who are first eligible after 1985 to both a pension based in whole or in part on non-covered employment and a social security retirement or disability benefit. There is a guarantee provision that limits the reduction in the social security benefit to one-half of the portion of the pension based on non-covered employment after 1956. Section 8011 of Public Law 100-647 changed the effective date of the onset from the first month of eligibility to the first month of concurrent entitlement to the non-covered service benefit and the RRA benefit.

Section 3(a)(1) of the RRA provides that the Tier I benefit of an employee annuity shall be equal to the amount (before any reduction for age or deduction for work) the employee would receive if entitled to a like benefit under the Social Security Act. The reduction for a non-covered service pension also applies to a Tier I portion of the employee annuity under the RRA when the annuity or non-covered service pension begins after 1985. Since the amount of a spouse's Tier I benefit is one-half of the employee's Tier I, the spouse annuity is also affected.

Form G-209, Employee Non-Covered Service Pension Questionnaire, is used by the RRB to obtain needed information (1) from a railroad employee who while completing Form AA-1, Application for Employee Annuity (OMB No. 3220-0002), indicates entitlement to or receipt of a pension based on employment not covered under Railroad Retirement or Social Security; (2) from a railroad employee when an independently-entitled divorced spouse applicant believes the employee to be entitled to a non-covered service pension. However, should RRB records indicate the employee has 30 or more years of coverage, this development is unnecessary; or (3) from an employee annuitant who becomes entitled to a pension based on employment not covered under Railroad Retirement or Social Security. One response is requested of each respondent. Completion is required to obtain or retain benefits.

The RRB Proposes Minor Non-Burden Impacting, Editorial Changes to Form G-209

Estimate of Annual Respondent Burden

The estimated annual respondent burden is as follows:

Form No. | Annual responses | Time (minutes) | Burden (hours)
G-209 (Partial Questionnaire) | 50 | 1 | 1
G-209 (Full Questionnaire) | 100 | 8 | 13
Total | 150 |  | 14

3. Title and purpose of information collection: Availability for Work; OMB 3220-0164.

Under Section 1(k) of the Railroad Unemployment Insurance Act, unemployment benefits are not payable for any day for which the claimant is not available for work.

Under Railroad Retirement Board (RRB) regulation 20 CFR 327.5, “available for work” is defined as being willing and ready for work. A claimant is “willing” to work if willing to accept and perform for hire such work as is reasonably appropriate to his or her employment circumstances. A claimant is “ready” for work if he or she (1) is in a position to receive notice of work and is willing to accept and perform such work, and (2) is prepared to be present with the customary equipment at the location of such work within the time usually allotted.

Under RRB regulation 20 CFR 327.15, a claimant may be requested at any time to show, as evidence of willingness to work, that reasonable efforts are being made to obtain work. In order to determine whether a claimant is: (a) Available for work, and (b) willing to work, the RRB utilizes Forms UI-38 and UI-38s to obtain information from the claimant and Form ID-8k from the union representative. One response is completed by each respondent. The RRB proposes to eliminate question two regarding “pay for time lost” from Form ID-8k. This question was previously included to remind covered employers of their reporting obligations under section 2(f) of the RUIA. The question is being removed as it was determined that other forms, such as the ID-4e and ID-4k, provide sufficient notice of covered employer's reporting obligations under section 2(f). The RRB proposes no changes to Forms UI-38 and UI-38s.

Estimate of Annual Respondent Burden

The estimated annual respondent burden is as follows:

Form No. | Annual responses | Time (minutes) | Burden (hours)
UI-38s:
In person | 50 | 6 | 5
By mail | 102 | 10 | 17
UI-38 | 3,114 | 11.5 | 597
ID-8k | 4,162 | 5 | 347
Total | 7,428 |  | 966

Additional Information or Comments: To request more information or to obtain a copy of the information collection justification, forms, and/or supporting material, contact Charles Mierzwa, the RRB Clearance Officer, at (312) 751-3363 or Charles.Mierzwa@rrb.gov. Comments regarding the information collection should be addressed to Patricia Henaghan, Railroad Retirement Board, 844 North Rush Street, Chicago, Illinois 60611-2092 or e-mailed to Patricia.Henaghan@rrb.gov. Written comments should be received within 60 days of this notice.

Charles Mierzwa,
Clearance Officer.

[FR Doc. 2011-12406 Filed 5-19-11; 8:45 am]

BILLING CODE 7905-01-P